DEPARTMENT OF COMMERCE

[I.D. 020702F]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration (NOAA).

Title: Southeast Region Gear Identification Requirements.

Form Number(s): None.

OMB Approval Number: 0648-0359.

Type of Request: Regular submission.

Burden Hours: 2,192.

Number of Respondents: 1,000.

Average Hours Per Response: 7 minutes to mark a trap; 10 seconds to mark a coral rock; and 20 minutes to mark a gillnet float.

Needs and Uses: Participants in certain Federally-regulated fisheries in the Southeast Region of the U.S. must mark their fishing gear with the vessel's official identification number or permit number (depending upon the fishery) and color code. Harvesters of aquacultured live rock must mark or tag the material deposited. These requirements are needed to aid fishery enforcement activities and for purposes of gear identification of lost or damaged gear and related civil proceedings.

Affected Public: Business or other for-profit organizations, individuals or households.

Frequency: Third-party disclosure.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: February 6, 2002.
Gwellnar Banks,
Management Analyst, Office of the Chief Information Officer.

[FR Doc. 02-3489 Filed 2-12-02; 8:45 am]

BILLING CODE 3510-22-S